DEPARTMENT OF COMMERCE

Foreign-Trade Zones Board

[Docket 63-2010]

Foreign-Trade Zone 64—Jacksonville, Florida Application for Reorganization/Expansion Under Alternative Site Framework

An application has been submitted to the Foreign-Trade Zones (FTZ) Board (the Board) by the Jacksonville Port Authority, grantee of FTZ 64, requesting authority to reorganize and expand the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on November 4, 2010.

FTZ 64 was approved by the Board on December 29, 1980 (Board Order 170, 46 FR 1330, 1/6/1981) and expanded on October 7, 2008 (Board Order 1579, 73 FR 61781, 10/17/2008).

The current zone project includes the following “sites” in Jacksonville, Florida: Site 1 (67 acres)—Jacksonville International Airport, Pecan Park Road and Terrell Road; Site 2 (43 acres)—Halmark Properties, Inc., 2201 North Ellis Road; Site 3 (942 acres)—JPA Blount Island Terminal Complex, 9620 Dave Rawls Boulevard, and JPA Talleyrand Docks and Terminal Facility, 2085 Talleyrand Avenue; Site 4 (200 acres)—International Trade port Complex, Airport Road; Site 5 (4 acres)—Caribbean Cold Storage, Inc., 1505 Dennis Street; Site 7 (47 acres)—Westlake Industrial Park, 9767 Pritchard Road; and Site 8 (75 acres)—Imeson International Industrial Park, One Imeson Park Boulevard.

The grantee's proposed service area under the ASF would be the Florida counties of Baker, Clay, Columbia, Duval and Nassau, as described in the application. If approved, the grantee would be able to serve sites throughout the service area based on companies' needs for FTZ designation. The proposed service area is within and adjacent to the Jacksonville Customs and Border Protection port of entry.

The applicant is requesting authority to reorganize and expand its existing zone project to include existing Sites 1 and 3 as “magnet” sites, to include existing Sites 4, 7, and 8 as “usage-driven” sites, to remove existing Sites 2 and 5, and to include the following new site as a magnet site: Proposed Site 10 (4,474.0 acres)—AllianceFlorida at Cecil Commerce Center, I-10 and Cecil Commerce Center Parkway, Jacksonville. Further, existing Site 3 will have its non-contiguous parcel renumbered, with the Talleyrand Docks and Terminal Facility (2085 Talleyrand Avenue, Jacksonville) to be designated as Site 9 (magnet site). The ASF allows for the possible exemption of one magnet site from the “sunset” time limits that generally apply to sites under the ASF, and the applicant proposes that Site 3 (JPA Blount Island Terminal Complex) be so exempted. Because the ASF only pertains to establishing or reorganizing a general-purpose zone, the application would have no impact on FTZ 64's authorized subzone.

In accordance with the Board's regulations, Maureen Hinman of the FTZ Staff is designated examiner to evaluate and analyze the facts and information presented in the application and case record and to report findings and recommendations to the Board.

Public comment is invited from interested parties. Submissions (original and 3 copies) shall be addressed to the Board's Executive Secretary at the address below. The closing period for their receipt is January 10, 2011. Rebuttal comments in response to material submitted during the foregoing period may be submitted during the subsequent 15-day period to January 24, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Maureen Hinman at maureen.hinman@trade.gov or (202) 482-0627.

Dated: November 4, 2010.
Andrew McGilvray,
Executive Secretary.

[FR Doc. 2010-28414 Filed 11-9-10; 8:45 am]

BILLING CODE P